DEPARTMENT OF ENERGY

Federal Energy Regulatory Commission

Combined Notice of Filings #1

June 13, 2007.

Take notice that the Commission received the following electric rate filings

Docket Numbers: ER06-1545-003.

Applicants: Southern Company Services, Inc.

Description: Alabama Power Company et al. submit a response to FERC's Staff's Deficiency Letter.

Filed Date: 05/29/2007.

Accession Number: 20070613-0094.

Comment Date: 5 p.m. Eastern Time on Tuesday, June 19,2007.

Docket Numbers: ER07-544-001.

Applicants: PacifiCorp.

Description: PacifiCorp submits its compliance filing pursuant to the Commission 4/10/07 letter order.

Filed Date: 04/25/2007.

Accession Number: 20070425-5029.

Comment Date: 5 p.m. Eastern Time on Wednesday, June 20, 2007.

Docket Numbers: ER07-974-001.

Applicants: Wisconsin Electric Power Company.

Description: Wisconsin Electric Power Company submits an errata its Wholesale Distribution Service Agreement with the City of Norway, Michigan.

Filed Date: 06/12/2007.

Accession Number: 20070612-5048.

Comment Date: 5 p.m. Eastern Time on Tuesday, July 03, 2007.

Docket Numbers: ER07-1018-000.

Applicants: SIG Energy, LLLP.

Description: SIG Energy, LLLP submits a notice of succession informing that it has succeeded to the market-based rate tariff of Susquehanna Energy Products, LLC.

Filed Date: 06/08/2007.

Accession Number: 20070612-0192.

Comment Date: 5 p.m. Eastern Time on Friday, June 29, 2007.

Docket Numbers: ER07-1019-000 ER07-1020-000; ER07-1021-000.

Applicants: Niagara Mohawk Power Corporation.

Description: Niagara Mohawk Power Corp dba National Grid submits an unexecuted interconnection agreements based on the New York Independent System Operator Standard Large Generator Interconnection Agreement.

Filed Date: 06/08/2007.

Accession Number: 20070612-0193.

Comment Date: 5 p.m. Eastern Time on Friday, June 29, 2007.

Docket Numbers: ER07-1022-000.

Applicants: Duke Energy Carolinas, LLC.

Description: Duke Energy Carolinas, LLC submits an amendment to its FERC Electric, Fourth Revised Volume 3, to become 6/7/07.

Filed Date: 06/08/2007.

Accession Number: 20070612-0191.

Comment Date: 5 p.m. Eastern Time on Friday, June 29, 2007.

Docket Numbers: ER96-719-017; ER97-2801-017; ER99-2156-011.

Applicants: PacifiCorp; Cordova Energy Company LLC; MidAmerican Energy Company.

Description: Cordova Energy Company LLC et al. provides a notice of change in status under market-based rate authority pursuant to section 35.27(c) of the Commission's Regulations.

Filed Date: 06/08/2007.

Accession Number: 20070612-0218.

Comment Date: 5 p.m. Eastern Time on Friday, June 29, 2007.

Take notice that the Commission received the following public utility holding company filings:

Docket Numbers: PH07-19-000.

Applicants: Macquarie Infrastructure Company LLC.

Description: Macquarie Infrastructure Company LLC submits an Exemption Notification.

Filed Date: 06/12/2007.

Accession Number: 20070611-5090.

Comment Date: 5 p.m. Eastern Time on Tuesday, July 03, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E7-11878 Filed 6-19-07; 8:45 am]

BILLING CODE 6717-01-P